DEPARTMENT OF ENERGY

Federal Energy Regulatory Commission

[Docket No. RP05-164-000]

Equitrans, L.P.; Notice of Technical Conference

April 5, 2005.

Take a notice that the Commission will convene a technical conference on Tuesday, April 12, 2005, at 1 p.m., in a room to be designated at the offices of the Federal Energy Regulatory Commission, 888 First Street, NE., Washington, DC 20426.

The purpose of the Commission is to discuss the issues raised by Equitrans' proposed Rate Schedule for Appalachian Gathering Service (AGS), and the deletion of Rate Schedules for Interruptible Gathering Service (IGS) and Appalachian Pooling Service (APS), Equitrans' proposal for compliance with Order Nos. 637 and 587, as well as any other non-rate issues the parties raised with respect to Rate Schedule AGS. In addition, the proposed Rate Schedule PS, filed on March 30, 2005, will be discussed. The Commission directed its staff to convene this technical conference in a February 28, 2005 Order.¹

¹ Equitrans, L.P., 110 FERC ¶ 61,194 (2005).

FERC conferences are accessible under section 508 of the Rehabilitation Act of 1973. For accessibility accommodations please send an e-mail to accessibility@ferc.gov or call toll free (866) 208-3372 (voice) or 202-208-01659 (TTY), or send a FAX to 202-208-2106 with the required accommodations.

All interested persons are permitted to attend. For further information please contact Christy Walsh at (202) 502-6523 or e-mail christy.walsh@ferc.gov.

Magalie R. Salas,
Secretary.

[FR Doc. E5-1721 Filed 4-12-05; 8:45 am]

BILLING CODE 6717-01-P